INTERNATIONAL TRADE COMMISSION

[Investigations Nos. 731-TA-1039-1040 (Final)]

Certain Wax and Wax/Resin Thermal Transfer Ribbons From France and Japan Determinations

On the basis of the record ¹ developed in the subject investigations, the United States International Trade Commission (Commission) determines, pursuant to section 735(b) of the Tariff Act of 1930 (19 U.S.C. 1673d(b)) (the Act), that an industry in the United States is not materially injured or threatened with material injury, and the establishment of an industry in the United States is not materially retarded, by reason of imports from France and Japan of certain wax and wax/resin thermal transfer ribbons, provided for in heading 3702 and subheadings 3921.90.40, 9612.10.90, 3204.90, 3506.99, 3919.90, 3920.62, 3920.99, and 3926.90 of the Harmonized Tariff Schedule of the United States, that have been found by the Department of Commerce (Commerce) to be sold in the United States at less than fair value (LTFV).²

¹ The record is defined in § 207.2(f) of the Commission's Rules of Practice and Procedure (19 CFR 207.2(f)).

² On April 6, 2004, the Commission terminated its investigation with regard to Korea (Inv. No. 731-TA-1041) as a result of Commerce's final negative determination of LTFV sales of subject imports from Korea (69 FR 17645, April 5, 2004).

Background

The Commission instituted these investigations effective May 30, 2003, following receipt of a petition filed with the Commission and Commerce by International Imaging Materials, Inc. (IIMAK), Amherst, NY. The final phase of these investigations was scheduled by the Commission following notification of preliminary determinations by Commerce that imports of certain wax and wax/resin thermal transfer ribbons from France and Japan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of January 8, 2004 (69 FR 1302). The hearing was held in Washington, DC, on March 9, 2004, and all persons who requested the opportunity were permitted to appear in person or by counsel.

The Commission transmitted its determinations in these investigations to the Secretary of Commerce on April 19, 2004. The views of the Commission are contained in USITC Publication 3683 (April 2004), entitled Certain Wax and Wax/Resin Thermal Transfer Ribbons from France and Japan: Investigations Nos. 731-TA-1039-1040 (Final).

Issued: April 13, 2004.
By order of the Commission.
Marilyn R. Abbott,
Secretary to the Commission.

[FR Doc. 04-8741 Filed 4-16-04; 8:45 am]

BILLING CODE 7020-02-P